DEPARTMENT OF TRANSPORTATION

Federal Aviation Administration

14 CFR Part 39

[Docket No. FAA-2009-0263; Directorate Identifier 2008-NM-137-AD; Amendment 39-15957; AD 2009-14-07]

RIN 2120-AA64

Airworthiness Directives; Dassault Model Mystere-Falcon 20-C5, 20-D5, 20-E5, and 20-F5 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

This Airworthiness Directive (AD) is issued following the discovery of hot air leaks when operating the wing anti-icing system. The seals Part Number (P/N) MS29513-325, near the de-icing valves (12H1) and (12H2) in frame 33 area, do not have the proper temperature rating.

The consequences, in the area of the hot air leak, are risks of ignition of potential hydraulic leaks.

* * * * *

We are issuing this AD to require actions to correct the unsafe condition on these products.

DATES: This AD becomes effective August 12, 2009.

The Director of the Federal Register approved the incorporation by reference of a certain publication listed in this AD as of August 12, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on March 26, 2009 (74 FR 13147). That NPRM proposed to correct an unsafe condition for the specified products. The MCAI states:

This Airworthiness Directive (AD) is issued following the discovery of hot air leaks when operating the wing anti-icing system. The seals Part Number (P/N) MS29513-325, near the de-icing valves (12H1) and (12H2) in frame 33 area, do not have the proper temperature rating.

The consequences, in the area of the hot air leak, are risks of ignition of potential hydraulic leaks.

The purpose of this AD is to verify that seals with correct temperature rating have been installed on Mystere-Falcon 20-()5 airplanes.

The corrective action includes replacing the left and right seals near de-icing valves (12H1) and (12H2) in frame area 33. You may obtain further information by examining the MCAI in the AD docket.

Comments

We gave the public the opportunity to participate in developing this AD. We considered the comment received.

Request To Refer to Current Revision of the Service Bulletin

Dassault Falcon Jet Corporation (Dassault) requests that we revise the NPRM to refer to Revision 1 of Dassault Mandatory Service Bulletin F20-766, dated June 24, 2008, in this AD. We referred to Dassault Service Bulletin F20-766, dated October 31, 2005, in the NPRM as the appropriate source of service information for doing the proposed requirements.

We agree. Dassault Mandatory Service Bulletin F20-766, Revision 1, dated June 24, 2008, does not specify any additional action for airplanes on which the required actions have been accomplished in accordance with the original issue of Dassault Service Bulletin F20-766, dated October 31, 2005. Also, paragraph 1.D. of Dassault Mandatory Service Bulletin F20-766, Revision 1, dated June 24, 2008, revises the compliance to correspond with the MCAI. Therefore, we revised paragraphs (f) and (h) of this AD to refer to Dassault Mandatory Service Bulletin F20-766, Revision 1, dated June 24, 2008. We have also revised paragraph (f) of this AD to give credit for actions done before the effective date of this AD in accordance with Dassault Service Bulletin F20-766, dated October 31, 2005.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 187 products of U.S. registry. We also estimate that it will take about 1 work-hour per product to comply with the basic requirements of this AD. The average labor rate is $80 per work-hour. Based on these figures, we estimate the cost of this AD to the U.S. operators to be $14,960, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-14-07 Dassault Aviation (Formerly Avions Marcel Dassault-Breguet Aviation (AMD/BA)): Amendment 39-15957. Docket No. FAA-2009-0263; Directorate Identifier 2008-NM-137-AD.

Effective Date

(a) This airworthiness directive (AD) becomes effective August 12, 2009.

Affected ADs

(b) None.

Applicability

(c) This AD applies to Mystere-Falcon 20-C5, 20-D5, 20-E5, and 20-F5 airplanes, certificated in any category, without Dassault Service Bulletin F20-766 implemented.

Subject

(d) Air Transport Association (ATA) of America Code 30: Ice and rain protection.

Reason

(e) The mandatory continuing airworthiness information (MCAI) states:

This Airworthiness Directive (AD) is issued following the discovery of hot air leaks when operating the wing anti-icing system. The seals Part Number (P/N) MS29513-325, near the de-icing valves (12H1) and (12H2) in frame 33 area, do not have the proper temperature rating.

The consequences, in the area of the hot air leak, are risks of ignition of potential hydraulic leaks.

The purpose of this AD is to verify that seals with correct temperature rating have been installed on Mystere-Falcon 20-()5 airplanes.

The corrective action includes replacing the left and right seals near de-icing valves (12H1) and (12H2) in frame area 33.

Actions and Compliance

(f) Unless already done, within 7 months after the effective date of this AD, perform an inspection for a red line marking on each of the Wiggins couplings that are located near the de-icing valves (12H1) and (12H2), in accordance with Dassault Mandatory Service Bulletin F20-766, Revision 1, dated June 24, 2008. If a red line is not found, prior to further flight, replace the seals to the left and right Wiggins couplings, in accordance with Dassault Mandatory Service Bulletin F20-766, Revision 1, dated June 24, 2008. Inspections and replacements accomplished before the effective date of this AD in accordance with Dassault Service Bulletin F20-766, dated October 31, 2005, are considered acceptable for compliance with the corresponding actions specified in this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0123, dated July 2, 2008; and Dassault Mandatory Service Bulletin F20-766, Revision 1, dated June 24, 2008; for related information.

Material Incorporated by Reference

(i) You must use Dassault Mandatory Service Bulletin F20-766, Revision 1, dated June 24, 2008, to do the actions required by this AD, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606; telephone 201-440-6700; Internet http://www.dassaultfalcon.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on June 24, 2009.
Ali Bahrami,
Manager, Transport Airplane Directorate, Aircraft Certification Service.

[FR Doc. E9-15638 Filed 7-7-09; 8:45 am]

BILLING CODE 4910-13-P